DEPARTMENT OF THE INTERIOR

Fish and Wildlife Service

[FWS-R4-R-2009-N0081; 40136-1265-0000-S3]

Chassahowitzka National Wildlife Refuge, Citrus and Hernando Counties, FL

AGENCY: Fish and Wildlife Service, Interior.

ACTION: Notice of intent to prepare a comprehensive conservation plan and environmental assessment; request for comments.

SUMMARY: We, the U.S. Fish and Wildlife Service, intend to prepare a comprehensive conservation plan (CCP) and associated National Environmental Policy Act (NEPA) documents for Chassahowitzka National Wildlife Refuge (NWR). We provide this notice in compliance with our CCP policy to advise other Federal and State agencies, Tribes, and the public of our intentions, and to obtain suggestions and information on the scope of issues to consider in the planning process.

DATES: To ensure consideration, we must receive your written comments by July 8, 2009. Special mailings, newspaper articles, and other media announcements will be used to inform the public and State and local government agencies of the opportunities for input throughout the planning process. A public scoping meeting will be held early in the CCP development process. The date, time, and place for the meeting will be announced in the local media.

ADDRESSES: Send comments, questions, and requests for information to: Ms. Mary Morris, Natural Resource Planner, Chassahowitzka NWR, 1502 Southeast Kings Bay Drive, Crystal River, FL 34429.

FOR FURTHER INFORMATION CONTACT: Ms. Mary Morris, Natural Resource Planner; telephone: 850/567-6202; e-mail: ChassCCP@fws.gov.

SUPPLEMENTARY INFORMATION:

Introduction

With this notice, we initiate our process for developing a CCP for Chassahowitzka NWR in Citrus and Hernando Counties, Florida. This notice complies with our CCP policy to: (1) Advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each refuge. The purpose for developing a CCP is to provide refuge managers with a 15-year strategy for achieving refuge purposes and contributing to the mission of the National Wildlife Refuge System, consistent with sound principles of fish and wildlife management, conservation, legal mandates, and our policies. In addition to outlining broad management direction for conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System was established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. At this time we encourage input in the form of issues, concerns, ideas, and suggestions for the future management of Chassahowitzka NWR.

We will conduct the environmental review of this project and develop an environmental assessment in accordance with the requirements of the National Environmental Policy Act of 1969, as amended (NEPA) (42 U.S.C. 4321 et seq.); NEPA regulations (40 CFR parts 1500-1508); other appropriate Federal laws and regulations; and our policies and procedures for compliance with those laws and regulations.

Located in the southwestern corner of Citrus County and the northwestern corner of Hernando County, approximately 65 miles north of Tampa, the 30,843-acre Chassahowitzka NWR was established by authority of the Migratory Bird Conservation Act on June 15, 1943, as “an inviolate sanctuary” for wintering waterfowl and other migratory birds. In 1976, we designated 16,893 acres in Citrus County and 6,736 acres in Hernando County as “Wilderness.” The refuge's diverse ecosystem, including prime estuarine habitat, is home for an incredible variety and abundance of flora and fauna. The marshlands, swamplands, shallow bays, and tidal streams provide both the quantity and quality of aquatic plant and animal life required to support thousands of wintering waterfowl, marsh and waterbirds, shorebirds, fishes, and a variety of animal species that depend on a marine environment. Additionally, the refuge includes 2,560 acres of hardwood swamplands and 250 acres of upland forest that form its eastern boundary. Notable imperiled species include Florida manatees, whooping cranes, Gulf sturgeon, and smalltooth sawfish. The endangered whooping crane was introduced to the refuge's marsh habitats. A highly visible partnership program has been in place for several years.

Public Availability and Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: May 5, 2009.
Cynthia K. Dohner,
Acting Regional Director.

[FR Doc. E9-13291 Filed 6-5-09; 8:45 am]

BILLING CODE 4310-55-P